NATIONAL CREDIT UNION ADMINISTRATION

Sunshine Act; Notice of Meeting

TIME AND DATE: 10 a.m., Thursday, October 23, 2003.

PLACE: Board Room, 7th Floor, Room 7047, 1775 Duke Street, Alexandria, VA 22314-3428.

STATUS: Open.

MATTERS TO BE CONSIDERED: 1. Quarterly Insurance Fund Report.

2. Proposed Rule: Part 748 of NCUA Rules and Regulations, Guidance on Response Programs for Unauthorized Access to Member Information and Member Notice.

3. Interpretive Ruling and Policy Statement (IRPS) 03-3, Qualified Financial Contracts.

4. Direct Final Rule: Part 792, Subpart A of NCUA Rules and Regulations, Freedom of Information Act.

RECESS: 11:15 a.m.

TIME AND DATE: 11:30 a.m., Thursday, October 23, 2003.

PLACE: Board Room, 7th Floor, Room 7047, 1775 Duke Street, Alexandria, VA 22314-3428.

STATUS: Closed.

MATTERS TO BE CONSIDERED: 1. Administrative Action under part 708 of NCUA's Rules and Regulations. Closed pursuant to Exemption (8).

2. Administrative Action under section 206 of the Federal Credit Union Act. Closed pursuant to Exemptions (8), 9(A)(ii), and 9(B).

FOR FURTHER INFORMATION CONTACT: Becky Baker, Secretary of the Board, Telephone: (703) 518-6304.

Becky Baker,
Secretary of the Board.

[FR Doc. 03-26565 Filed 10-16-03; 2:51 pm]

BILLING CODE 7535-01-M